DEPARTMENT OF HEALTH AND HUMAN SERVICES

Office of the Secretary

[Document Identifier: OS-0990-New]

Agency Information Collection Activities; Proposals Submissions, and Approvals

AGENCY: Office of the Secretary, Office of Assistant Secretary for Planning & Evaluation

Agency Information Collection Activities: Proposed Collection; Comment Request.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular Clearance;

Title of Information Collection: Survey of Frontline Supervisors of Direct Service Workers Participating in the Better Jobs Better Care Demonstration;

Form/OMB No.: OS-0990-New;

Use: The President's New Freedom Initiative specifies goals for enhancing the direct service workforce availability and capability. There is currently a major shortage of direct care workers—nursing assistants, home health aides, and personal care attendants—who provide care and support to elderly people with chronic diseases and disabilities. Worker shortages are certain to grow as the demand for long-term care increases with the aging population. Thus, recruitment and retention of direct care workers has recently become an issue of interest to policymakers and providers alike. The proposed survey will ensure that HHS and other Federal, state, and local agencies have timely data available on the central role of frontline supervisors in direct care workers job quality and turnover.

Frequency: Reporting, on occasion;

Affected Public: Individuals or households, business or other for profit, not for profit institutions;

Annual Number of Respondents: 906.

Total Annual Responses: 906;

Average Burden Per Response: 30 minutes;

Total Annual Hours: 1,005;

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be received within 60-days, and directed to the OS Paperwork Clearance Officer at the following address: Department of Health and Human Services, Office of the Secretary, Assistant Secretary for Budget, Technology, and Finance, Office of Information and Resource Management, Attention: Naomi Cook (0990-New), Room 531-H, 200 Independence Avenue, SW., Washington DC 20201.

Dated: July 15, 2005.
Robert E. Polson,
Office of the Secretary, Paperwork Reduction Act Reports Clearance Officer.

[FR Doc. 05-14564 Filed 7-22-05; 8:45 am]

BILLING CODE 4151-05-P